DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Chesapeake Bay Watershed Environmental Literacy Indicator Tool.

OMB Control Number: 0648-xxxx.

Form Number(s): None.

Type of Request: Regular (request for a new information collection).

Number of Respondents: 503.

Average Hours per Response: 90 minutes.

Burden Hours: 528, annualized.

Needs and Uses: This request is for a new information collection.

The Chesapeake Bay Watershed Agreement of 2014 requires monitoring of progress towards the environmental literacy goal: “Enable students in the region to graduate with the knowledge and skills needed to act responsibly to protect and restore their local watersheds.” The National Oceanic and Atmospheric Administration (NOAA), on behalf of the Chesapeake Bay Program, will ask the state education agencies for Maryland, Pennsylvania, Delaware, Virginia, West Virginia, and the District of Columbia to survey their local education agencies (LEAs) to determine: (1) LEA capacity to implement a comprehensive and systemic approach to environmental literacy education, (2) student participation in Meaningful Watershed Educational Experiences during the school year, (3) sustainability practices at schools, and (4) LEA needs for improving environmental literacy education programming. LEAs (generally school districts, in some cases charter school administration) are asked to complete the survey on the status of their LEA on a set of key indicators for the four areas listed above. One individual from each LEA is asked to complete this survey once every two years.

Affected Public: State, local or tribal government.

Frequency: Biennially.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 24, 2017.
Sarah Brabson,
NOAA PRA Clearance Officer.

[FR Doc. 2017-04021 Filed 3-1-17; 8:45 am]

BILLING CODE 3510-22-P